ENVIRONMENTAL PROTECTION AGENCY

[FRL-8735-3]

California State Nonroad Engine Pollution Control Standards; California Nonroad Compression Ignition Engines; Within-the-Scope Request; Opportunity for Public Hearing; Correction of Docket Number

AGENCY: Environmental Protection Agency.

ACTION: Notice; correction.

SUMMARY: On October 7, 2008, the U.S. Environmental Protection Agency's (EPA's) Office of Air and Radiation announced an opportunity for public hearing and written comment. The notice concerns the California Air Resources Board's request seeking EPA's confirmation that its amendments affecting emission standards for three broad categories of new compression ignition engines are within the scope of previous authorizations issued by EPA. Please be advised the docket number for that notice was incorrect.

FOR FURTHER INFORMATION CONTACT: David Dickinson, Compliance and Innovative Strategies Division (6405J), U.S. Environmental Protection Agency, 1200 Pennsylvania Ave., NW., Washington, DC 20460. Telephone: (202) 343-9256, Fax: (202) 343-2804, e-mail: Dickinson.David@EPA.GOV.

Correction

In the Federal Register at 73 FR 58583 (October 7, 2008), on page 58583 (2nd column), correct the docket ID number to read EPA-HQ-OAR-2008-0670. This previous Federal Register notice provided instructions for submitting comments and such instructions should continue to be followed with the docket number provided by this notice.

Dated: October 22, 2008.
Robert J. Meyer,
Principal Deputy Assistant Administrator, Office of Air and Radiation.

[FR Doc. E8-25793 Filed 10-30-08; 8:45 am]

BILLING CODE 6560-50-M